DEPARTMENT OF ENERGY

Federal Energy Regulatory Commission

[Docket No. EG01-279-000, et al.]

PSEG Power Midwest LLC, et al.; Electric Rate and Corporate Regulation Filings

August 16, 2001.

Take notice that the following filings have been made with the Commission:

1. PSEG Power Midwest LLC

[Docket No. EG01-279-000]

On August 14, 2001, PSEG Power Midwest LLC (PSEG Midwest), with its principal office at 80 Park Plaza, Newark, NJ 07102, filed with the Federal Energy Regulatory Commission an application for determination of exempt wholesale generator status pursuant to Part 365 of the Commission's regulations.

PSEG Midwest is a limited liability company organized under the laws of the State of Delaware. PSEG Midwest will be engaged directly, or indirectly through a Section 2(a)(11)(B) affiliate, and exclusively in operating two gas-fired generating facilities; selling electric energy at wholesale and engaging in project development activities with respect thereto. The Facilities to be operated by PSEG Midwest will consist of an 850 MW natural gas-fired generating facility and an 1150 MW natural gas-fired generating facility.

Comment date: September 6, 2001, in accordance with Standard Paragraph E at the end of this notice. The Commission will limit its consideration of comments to those that concern the adequacy or accuracy of the application.

2. Hermiston Generating Company, L.P.

[Docket No. ER01-2159-001]

Take notice that on August 10, 2001, Hermiston Generating Company, L.P. (Hermiston) submitted for filing, in compliance with an order issued on July 27, 2001 by the Commission's Division of Corporate Applications in the above-captioned proceeding, a revised FERC Rate Schedule No. 3, and an alternative revised FERC Rate Schedule No. 3. Hermiston also filed a request for waivers and blanket authorizations with respect to its share of the current electrical output of an electric generating facility located in Hermiston, Oregon.

Comment date: August 31, 2001, in accordance with Standard Paragraph E at the end of this notice.

3. American Electric Power Service Corporation

[Docket No. ER01-2819-000]

Take notice that on August 10, 2001, the American Electric Power Service Corporation (AEPSC) tendered for filing an executed Interconnection Agreement between Southwestern Electric Power Company and Eastex Cogeneration Limited Partnership. The agreement is pursuant to the AEP Companies' Open Access Transmission Service Tariff (OATT) that has been designated as the Operating Companies of the American Electric Power System FERC Electric Tariff Revised Volume No. 6, effective June 15, 2000.

AEP requests an effective date of August 31, 2001. Copies of AEP's filing have been served upon Eastex Cogeneration Limited Partnership and the Public Utility Commission of Texas.

Comment date: August 31, 2001, in accordance with Standard Paragraph E at the end of this notice.

4. UtiliCorp United Inc.

[Docket No. ER01-2820-000]

Take notice that on August 10, 2001, UtiliCorp United Inc. (UtiliCorp), filed with the Commission, pursuant to Section 205 of the Federal Power Act, 16 U.S.C. 824d, and Part 35 of the Commission's regulations, 18 CFR 35, an Interconnection Agreement between UtiliCorp United Inc. d/b/a WestPlains Energy-Kansas and Gray County Wind Energy, LLC dated as of July 16, 2001. The Interconnection Agreement is filed as Service Agreement No. 103 to UtiliCorp's FERC Electric Tariff, Third Revised Volume No. 26 (the open access transmission tariff of UtiliCorp's WestPlains Energy-Kansas division).

Comment date: August 31, 2001, in accordance with Standard Paragraph E at the end of this notice.

5. Central Illinois Light Company

[Docket No. ER01-2821-000]

Take notice that Central Illinois Light Company (CILCO), 300 Liberty Street, Peoria, Illinois 61602, on August 10, 2001 tendered for filing with the Commission a substitute Index of Point-To-Point Transmission Service Customers under its Open Access Transmission Tariff and one service agreement for one new customer, Axia Energy, LP. Copies of the filing were served on the affected customer and the Illinois Commerce Commission.

CILCO requested an effective date of July 10, 2001 for the service agreement.

Comment date: August 31, 2001, in accordance with Standard Paragraph E at the end of this notice.

6. Indiana Michigan Power Company

[Docket No. ER01-2823-000]

Take notice that, on August 10, 2001, Indiana Michigan Power Company (I&M) tendered for filing with the Commission revised electric service agreements with the following customers: City of Auburn, Indiana; Town of Avilla, Indiana; City of Bluffton, Indiana; City of Garrett, Indiana; City of Gas City, Indiana; City of Mishawaka, Indiana; Town of New Carlisle, Indiana; City of Niles, Michigan; Village of Paw Paw, Michigan; South Haven, Michigan; and Warren, Indiana. The revised agreements contain new provisions that extend the period during which I&M has agreed to forego any rate increase and addresses burden of proof and cost-of-service issues pertaining to merger-related savings and costs. I&M requests an effective date of October 10, 2001, for the revised agreements.

I&M states that a copy of its filing was served upon counsel for the eleven customers, the Indiana Utility Regulatory Commission and the Michigan Public Service Commission.

Comment date: August 31, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21110 Filed 8-21-01; 8:45 am]

BILLING CODE 6717-01-P